DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Coral Reef Economic Valuation Pretest.

Form Number(s): None.

OMB Approval Number: None.

Type of Request: Regular submission.

Burden Hours: 34.

Number of Respondents: 67.

Average Hours Per Response: 30 minutes.

Needs and Uses: This is a national survey using an Internet panel. The survey is designed to yield information that can be used to estimate non-use or passive economic values for Hawaii's coral reef ecosystems. The survey addresses the public's preferences and economic values for the use of no-take areas as a management tool and the public's preferences and economic values for restoring damaged coral reefs. A large scale pre-test of the survey (200 survey responses) will first be conducted. After evaluation of the pre-test and OMB approval, the main survey will be conducted (as a separate information collection) on a national sample of approximately 2,000 respondents.

Affected Public: Individuals or households.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 6, 2005.
Gwellnar Banks,
Management Analyst, Office of the Chief Information Officer.

[FR Doc. 05-13600 Filed 7-11-05; 8:45 am]

BILLING CODE 3510-NK-P